DEPARTMENT OF COMMERCE

National Oceanic and Atmospheric Administration

RIN 0648-XA774

Marine Mammals; File No. 13927

AGENCY: National Marine Fisheries Service (NMFS), National Oceanic and Atmospheric Administration (NOAA), Commerce.

ACTION: Notice; receipt of application for permit amendment.

SUMMARY: Notice is hereby given that Dr. James H.W. Hain, Associated Scientists at Woods Hole, Box 721, Woods Hole, MA 02543, has applied for an amendment to Scientific Research Permit No. 13927.

DATES: Written, telefaxed, or email comments must be received on or before June 11, 2012.

ADDRESSES: The application and related documents are available for review by selecting “Records Open for Public Comment” from the Features box on the Applications and Permits for Protected Species home page, https://apps.nmfs.noaa.gov, and then selecting File No. 13927 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Carrie Hubard or Amy Hapeman, (301) 427-8401.

SUPPLEMENTARY INFORMATION: The subject amendment to Permit No. 13927 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 13927, issued on October 19, 2011 (76 FR 67151), authorizes the permit holder to take North Atlantic right (Eubalaena glacialis) and humpback whales (Megaptera novaeangliae) during aerial and vessel surveys off the U.S. southeast coast. Bottlenose (Tursiops truncatus) and Atlantic spotted dolphins (Stenella frontalis) may be incidentally harassed during research activities. The field season is December through April. The permit is valid through October 31, 2016. The permit holder is requesting the permit be amended to increase take numbers of North Atlantic right whales from 50 to 100 per year during aerial surveys and from ten to 60 per year during vessel surveys. The permit holder is not increasing his research effort or asking for changes to methodologies, location, species, field season, or permit duration. The permit holder is requesting the increase because the take numbers he originally requested and is currently authorized do not allow him to conduct his research as planned. Without the increases, a few groups of whales could exhaust his take numbers. As a result, he would have to end his field seasons prematurely and would lose the opportunity to collect data on whales only observed at the end of the season.

A draft supplemental environmental assessment (SEA) has been prepared in compliance with the National Environmental Policy Act of 1969 (42 U.S.C. 4321 et seq.), to examine whether significant environmental impacts could result from issuance of the proposed scientific research permit. The draft SEA is available for review and comment simultaneous with the scientific research permit application.

Concurrent with the publication of this notice in the Federal Register, NMFS is forwarding copies of this application to the Marine Mammal Commission and its Committee of Scientific Advisors.

Dated: May 7, 2012.
Tammy C. Adams,
Acting Chief, Permits and Conservation Division, Office of Protected Resources, National Marine Fisheries Service.

[FR Doc. 2012-11306 Filed 5-9-12; 8:45 am]

BILLING CODE 3510-22-P